DEPARTMENT OF COMMERCE

International Trade Administration

Initiation of Antidumping and Countervailing Duty Administrative Reviews, Request for Revocation in Part, and Deferral of Administrative Review

AGENCY: Import Administration, International Trade Administration, Department of Commerce.

SUMMARY: The Department of Commerce has received requests to conduct administrative reviews of various antidumping and countervailing duty orders and findings with June anniversary dates. In accordance with the Department's regulations, we are initiating those administrative reviews. The Department also received a request to revoke one antidumping duty order in part and to defer the initiation of an administrative review for another antidumping duty order.

EFFECTIVE DATE: July 30, 2008.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b)(2002), for administrative reviews of various antidumping and countervailing duty orders and findings with June anniversary dates. The Department also received a timely request to revoke in part the antidumping duty order on stainless steel butt-weld pipe fittings from Taiwan with respect to one exporter. In addition, the Department received a request to defer for one year the initiation of the June 1, 2007 through May 31, 2008 administrative review of the antidumping duty order on Folding Metal Tables and Chairs from the People's Republic of China with respect to one exporter in accordance with 19 CFR 351.213(c). The Department received no objections to this request from any party cited in 19 CFR 351.213(c)(1)(ii).

Respondent Selection

In the event the Department limits the number of respondents for individual examination for administrative reviews, the Department intends to select respondents based on U.S. Customs and Border Protection (CBP) data for U.S. imports during the period of review (POR). We intend to release the CBP data under Administrative Protective Order (APO) to all parties having an APO within five days of publication of this initiation notice and to make our decision regarding respondent selection within 20 days of publication of this Federal Register notice. The Department invites comments regarding the CBP data and respondent selection within 10 calendar days of publication of this Federal Register notice.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991) (“Sparklers”), as amplified by Final Determination of Sales at Less Than Fair Value: Silicon Carbide from the People's Republic of China, 59 FR 22585 (May 2, 1994) (“Silicon Carbide”). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register. In responding to the certification, please follow the “Instructions for Filing the Certification” in the Separate Rate Certification. Separate Rate Certifications are due to the Department no later than 30 calendar days of publication of this Federal Register notice. The deadline and requirement for submitting a Certification applies equally to NME-owned firms, wholly foreign-owned firms, and foreign sellers who purchase and export subject merchandise to the United States.

For entities that have not previously been assigned a separate rate, to demonstrate eligibility for such, the Department requires a Separate Rate Status Application. The Separate Rate Status Application will be available on the Department's Web site at http://www.trade.gov/ia on the date of publication of this Federal Register notice. In responding to the Separate Rate Status Application, refer to the instructions contained in the application. Separate Rate Status Applications are due to the Department no later than 60 calendar days of publication of this Federal Register notice. The deadline and requirement for submitting a Separate Rate Status Application applies equally to NME-owned firms, wholly foreign-owned firms, and foreign sellers that purchase and export subject merchandise to the United States.

Initiation of Reviews

In accordance with section 19 CFR 351.221(c)(1)(i), we are initiating administrative reviews of the following antidumping and countervailing duty orders and findings. We intend to issue the final results of these reviews not later than June 30, 2009. Also in accordance with 19 CFR 351.213(c), we deferring for one year the iniation of the June 1, 2007 through May 31, 2008 Administrative review of the antidumping duty order on Folding Metal Tables and Chairs from the People's Republic of China with respect to one exporter.

| Period to be reviewed
Antidumping Duty Proceedings
Japan: Certain Large Diameter Carbon and Alloy Seamless, Standard, Line, and Pressure Pipe,-588-850 | 6/1/2007-5/31/2008
JFE Steel Corporation
Nippon Steel Corporation
NKK Tubes
Sumitomo Metal Industries, Ltd.
Japan: Hot-Rolled Carbon Steel Flat Products, A-588-846 | 6/1/2007-05/31/2008
JFE Steel Corporation
Nippon Steel Corporation
Kobe Steel, Ltd.
Spain: Chlorinated Isocyanurates, A-469-814 | 6/1/2007-5/31/2008
Aragonesas Industrias y Energia
Inquide Flix, S.A.
South Korea: Polyethylene Terephthalate Film, Sheet, and Strip, A-580-807 | 10/2/2007-5/31/2008
Kolon Industries, Inc.
Taiwan: Certain Stainless Steel Butt-Weld Pipe Fittings, A-583-816 | 6/1/2007-5/31/2008
Ta Chen Stainless Pipe Co., Ltd.
Liang Feng Stainless Steel Fitting Co., Ltd.
Liang Feng Enterprise
Tru-Flow Industrial Co., Ltd.
Censor International Corporation
PFP Taiwan Co., Ltd.
The People's Republic Of China: Certain Color Television Receivers ¹, A-570-884 | 6/1/2007-5/31/2008
Haier Electric Appliances International Co.
Hisense Import and Export Co., Ltd.
Konka Group Company, Ltd.
Philips Consumer Electronics Co. of Suzhou Ltd.
Shenzhen Chaungwei-RGB Electronics Co., Ltd.
Sichuan Changhong Electric Co., Ltd.
Starlight International Holdings, Ltd.
Star Light Electronics Co., Ltd.
Star Fair Electronics Co., Ltd.
Starlight Marketing Development Ltd.
SVA Group Co., Ltd.
TCL Holding Company Ltd.
Xiamen Overseas Chinese Electronic Co., Ltd.
The People's Republic Of China: Certain Polyester Staple Fiber ², A-570-905 | 12/26/2006-5/31/2008
Far Eastern Industries, Ltd., (Shanghai) and Far Eastern Polychem Industries
Ningbo Dafa Chemical Fiber Co., Ltd.
Cixi Sansheng Chemical Fiber Co., Ltd.
Cixi Santai Chemical Fiber Co., Ltd.
Cixi Waysun Chemical Fiber Co., Ltd.
Hangzhou Best Chemical Fibre Co., Ltd.
Hangzhou Hanbang Chemical Fibre Co., Ltd.
Hangzhou Huachuang Co., Ltd.
Hangzhou Sanxin Paper Co., Ltd.
Hangzhou Taifu Textile Fiber Co., Ltd.
Jiaxang Fuda Chemical Fibre Factory
Nantong Loulai Chemical Fiber Co., Ltd.
Nanyang Textile Co., Ltd.
Suzhou PolyFiber Co., Ltd.
Xiamen Xianglu Chemical Fiber Co.
Zhaoqing Tifo New Fiber Co., Ltd.
Zhejiang Anshun Pettechs Fibre Co., Ltd.
Zhejiang Waysun Chemical Fiber Co., Ltd.
Dragon Max Trading Development
Xiake Color Spinning Co., Ltd.
Jiangyin Hailun Chemical Fiber Co., Ltd.
Hyosung Singapore PTE Ltd.
Jiangyin Changlong Chemical Fiber Co., Ltd.
Ma Ha Company, Ltd.
Jiangyin Huahong Chemical Fiber Co., Ltd.
Jiangyin Mighty Chemical Fiber Co., Ltd.
Huvis Sichuan
The People's Republic Of China: Chlorinated Isocyanurates ³, A-570-898 | 6/1/2007-5/31/2008
Hebei Jiheng Chemical Company Ltd.
The People's Republic Of China: Folding Metal Tables and Chairs ⁴, A-570-868 | 6/1/2007-5/31/2008
Dongguan Shichang Metals Factory Co., Ltd.
New-Tec Integration Co., Ltd.
New-Tec Integration (Xiamen) Co., Ltd.
The People's Republic Of China: Non-Frozen Apple Juice Concentrate ⁵, A-570-855 | 6/1/2007-5/31/2008
Yitian Juice (Shaanxi) Co., Ltd.
The People's Republic Of China: Silicon Metal ⁶, A-570-806 | 6/1/2007-5/31/2008
Shanghai Jinneng International Trade Co., Ltd.
Datong Jinneng Industrial Silicon Co., Inc.
Jiangxi Gangyuan Silicon Industry Company, Ltd.
S. AU (Guilin) Trade Co., Ltd.
Lao Silicon Co., Ltd.
The People's Republic Of China: Tapered Roller Bearings and Parts Thereof, Finished and Unfinished ⁷, A-570-601 | 6/1/2007-5/31/2008
Peer Bearing Company-Changshan
Countervailing Duty Proceeding
None.
Suspension Agreements
None.
Deferral of Initiation of Administrative Review
The People's Republic Of China: Folding Metal Tables and Chairs, A-570-868 | 6/1/2007-5/31/2008
Feili Furniture Development Ltd. Quanzhou City
Feili Furniture Development Co., Ltd.
Feili Group (Fujian) Co., Ltd.
Feili (Fujian) Co., Ltd.
¹ If one of the above-named companies does not qualify for a separate rate, all other exporters of Certain Color Televisions Receivers from the People's Republic of China who have not qualified for a separate rate are deemed to be covered by this review as part of the single PRC entity of which the named exporters are a part.
² If one of the above-named companies does not qualify for a separate rate, all other exporters of Certain Polyester Staple Fiber from the People's Republic of China who have not qualified for a separate rate are deemed to be covered by this review as part of the single PRC entity of which the named exporters are a part.
³ If the above-named company does not qualify for a separate rate, all other exporters of Chlorinated Isocyanurates from the People's Republic of China who have not qualified for a separate rate are deemed to be covered by this review as part of the single PRC entity of which the named exporters are a part.
⁴ If one of the above-named companies does not qualify for a separate rate, all other exporters of Folding Metal Tables and Chairs from the People's Republic of China who have not qualified for a separate rate are deemed to be covered by this review as part of the single PRC entity of which the named exporters are a part.
⁵ If one of the above-named companies does not qualify for a separate rate, all other exporters of Non-Frozen Apple Juice Concentrate from the People's Republic of China who have not qualified for a separate rate are deemed to be covered by this review as part of the single PRC entity of which the named exporters are a part.
⁶ If one of the above-named companies does not qualify for a separate rate, all other exporters of Silicon Metal from the People's Republic of China who have not qualified for a separate rate are deemed to be covered by this review as part of the single PRC entity of which the named exporters are a part.
⁷ If the above-named company does not qualify for a separate rate, all other exporters of Tapered Roller Bearings and Parts Thereof, Finished and Unfinished from the People's Republic of China who have not qualified for a separate rate are deemed to be covered by this review as part of the single PRC entity of which the named exporters are a part.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305. On January 22, 2008, the Department published Antidumping and Countervailing Duty Proceedings: Documents Submission Procedures; APO Procedures (73 FR 3634). Those procedures apply to administrative reviews included in this notice of initiation. Parties wishing to participate in any of these administrative reviews should ensure that they meet the requirements of these procedures (e.g., the filing of separate letters of appearance as discussed at 19 CFR 351.103(d)).

These initiations and this notice are in accordance with section 751(a) of the Tariff Act of 1930, as amended (19 U.S.C. 1675(a)), and 19 CFR 351.221(c)(1)(i).

Dated: July 24, 2008.
Stephen J. Claeys,
Deputy Assistant Secretary for Import Administration.

[FR Doc. E8-17485 Filed 7-29-08; 8:45 am]

BILLING CODE 3510-DS-P